DEPARTMENT OF TRANSPORTATION

Federal Highway Administration

Notice of Statute of Limitations on Claims; Notice of Final Federal Agency Actions on Proposed Highway in California

AGENCY: Federal Highway Administration (FHWA), DOT.

ACTION: Notice of Limitation on Claims for Judicial Review of Actions by the California Department of Transportation (Caltrans), pursuant to 23 USC 327.

SUMMARY: The FHWA, on behalf of Caltrans, is issuing this notice to announce actions taken by Caltrans that are final within the meaning of 23 U.S.C. 139(l)(1). The actions relate to a proposed highway project, the Interstate 10 High Occupancy Toll Lanes project between Interstate 605 and Alameda Street in the County of Los Angeles, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before December 6, 2010. If the Federal law that authorizes judicial review of a claim provides a time period of less than 180 days for filing such claim, then that shorter time period still applies.

FOR FURTHER INFORMATION CONTACT: For Caltrans: Ron Kosinski, Deputy District Director, Division of Environmental Planning, Caltrans District 7, 100 S. Main St., MS 16A, Los Angeles, CA 90012, (213) 897-0703, ron_kosinski@dot.ca.gov.

SUPPLEMENTARY INFORMATION: Effective July 1, 2007, the Federal Highway Administration (FHWA) assigned, and the California Department of Transportation (Caltrans) assumed, environmental responsibilities for this project pursuant to 23 U.S.C. 327. Notice is hereby given that the Caltrans has taken final agency actions subject to 23 U.S.C. 139(l)(1) by issuing licenses, permits, and approvals for the following highway project in the State of California: Conversion of existing High Occupancy Vehicle Lane into a High Occupancy Toll (HOT) Lane on I-10 San Bernardino Freeway/El Monte Busway. Work involves installation of signage and toll infrastructure, restriping of the existing lanes to accommodate an additional HOT lane and minor right-of-way on Ramona Road from the City of Alhambra. The purpose of the proposed project is to more efficiently utilize the existing freeway and relieve congestion in order to improve traffic flow on the regional transportation system. The actions by the Federal agencies, and the laws under which such actions were taken, are described in the Environmental Assessment (EA) and Finding of No Significant Impact (FONSI) approved on May 14, 2010 and in other documents in the FHWA project records. The EA, FONSI and other project records are available by contacting Caltrans at the addresses provided above. The Caltrans EA and FONSI can be viewed and downloaded from the project Web site at http://www.dot.ca.gov/dist07/resources/envdocs.

This notice applies to all Federal agency decisions as of the issuance date of this notice and all laws under which such actions were taken, including but not limited to:

1. National Environmental Policy Act (NEPA) [42 U.S.C. 4321-4351]; Federal-Aid Highway Act [23 U.S.C. 109].

2. Clean Air Act [42 U.S.C. 7401-7671(q)].

3. Migratory Bird Treaty Act [16 USC 703-712].

4. Section 106 of the National Historic Preservation Act of 1966, as amended [16 U.S.C. 470(aa)-11].

5. Civil Rights Act of 1964 [42 U.S.C. 2000(d)-2000(d)(1)].

6. Comprehensive Environmental Response, Compensation, and Liability Act (CERCLA) [42 U.S.C. 9601-9675]; Superfund Amendments and Reauthorization Act of 1986 (SARA).

7. Executive Orders: E.O. 12898 Federal Actions to Address Environmental Justice in Minority Populations and Low Income Populations; E.O. 11593 Protection and Enhancement of Cultural Resources; E.O. 13112 Invasive Species.

(Catalog of Federal Domestic Assistance Program Number 20.205, Highway Planning and Construction. The regulations implementing Executive Order 12372 regarding intergovernmental consultation on Federal programs and activities apply to this program.)

Authority: 23 U.S.C. 139(l)(1).

Issued on: June 3, 2010.
Cindy Vigue,
Director, State Programs, Federal Highway Administration, Sacramento, California.

[FR Doc. 2010-13878 Filed 6-8-10; 8:45 am]

BILLING CODE 4910-RY-P